DEPARTMENT OF TRANSPORTATION

Office of the Secretary

[Docket ID Number: DOT-OST-2018-0068]

Notice of Submission of Proposed Information Collection to OMB Agency Request for Reinstatement of Previously Approved Collections: Traveling by Air With Service Animals—U.S. Department of Transportation Service Animal Air Transportation Form and U.S. Department of Transportation Service Animal Relief Attestation Form

AGENCY: Office of the Secretary (OST), Department of Transportation (Department or DOT).

ACTION: Notice and request for comments.

SUMMARY: In accordance with the Paperwork Reduction Act of 1995, this notice announces DOT's intention to reinstate an Office of Management and Budget (OMB) Control Number 2105-0576, “U.S. Department of Transportation Service Animal Air Transportation Form,” and to seek comment on formatting and clarifying amendments to this form. The Department also seeks to reinstate its “U.S. Department of Transportation Service Animal Relief Attestation Form”; no amendments have been made to this form. The subject information collections are related to a requirement in the Code of Federal Regulations (CFR) that permits airlines to collect service animal documentation from passengers with a disability traveling by air with a service animal.

DATES: Interested persons are invited to submit comments regarding this proposal. Written comments should be submitted by January 12, 2024.

ADDRESSES: You may file comments identified by the docket number DOT-OST-2018-0068 by any of the following methods:

• Federal eRulemaking Portal: Go to https://www.regulations.gov and follow the online instructions for submitting comments. (You may access comments received for this notice at https://www.regulations.gov by searching docket DOT-OST-2018-0068.)

• Mail: Docket Management Facility, U.S. Department of Transportation, 1200 New Jersey Ave. SE, West Building Ground Floor Room, W12-140, Washington, DC 20590-0001;

• Hand Delivery: West Building Ground Floor, Room W12-140, 1200 New Jersey Ave. SE, between 9 a.m. and 5 p.m., Monday through Friday, except Federal holidays. The telephone number is 202-366-9329.

Instructions: You must include the agency name and docket number DOT-OST-2010-0054 at the beginning of your comment. All comments received will be posted without change to https://www.regulations.gov, including any personal information provided.

Privacy Act: Anyone is able to search the electronic form of all comments received in any of DOT's dockets by the name of the individual submitting the comment (or signing the comment, if submitted on behalf of an association, business, labor union, etc.). You may review DOT's complete Privacy Act Statement in the Federal Register published on April 11, 2000 (65 FR 19477-78).

FOR FURTHER INFORMATION CONTACT: Maegan Johnson or Livaughn Chapman, Jr., Office of Aviation Consumer Protection, U.S. Department of Transportation, 1200 New Jersey Avenue SE, Washington, DC 20590, Telephone Number (202) 366-9342 (voice), (202) 366-7152 (fax); maegan.johnson@dot.gov or livaughn.chapman@dot.gov (email). Arrangements to receive this document in an alternative format may be made by contacting the above-named individuals.

SUPPLEMENTARY INFORMATION:

OMB Control Number: 2105-0576.

Title: Traveling by Air with Service Animals.

Type of Request: Reinstatement of information collections.

Background: The U.S. Department of Transportation (Department or DOT) published a final rule to amend the Department's Air Carrier Access Act (ACAA) regulation on the transport of service animals by air in the Federal Register on December 10, 2020 (85 FR 79742). 14 CFR 382.75 allows airlines to require passengers traveling with service animals to provide carriers with the following two forms of documentation developed by the Department as a condition of travel. The first form published in the rule, the U.S. Department of Transportation Service Animal Air Transportation Form (“Behavior and Health Attestation Form”), is designed to ensure and inform airlines of the service animal's good health, disability-related training, and good behavior; to educate passengers traveling with service animals on how service animals in air transportation are expected to behave; and to inform passengers traveling with service animals of the consequences of service animal misbehavior. The second form published in the rule, the U.S. Department of Transportation Service Animal Relief Attestation Form (“Relief Attestation Form”), may only be required by the airlines when a passenger is traveling with service animals on a flight segment scheduled to take 8 hours or more. The purpose of this form is to provide assurances to airlines that the service animal will not need to relieve itself on the flight or that the animal can relieve itself in a way that does not create a health or sanitation issue, and to educate passengers of the consequences should an animal relieve itself on the aircraft in an unsanitary way.

The Behavior and Health Attestation Form and the Relief Attestation Form are the only forms that airlines are permitted to require from passengers traveling with service animals as a condition of transport, except in rare circumstances when additional documentation may be necessary to comply with requirements on transport of animals by a Federal agency, a U.S. territory, or a foreign jurisdiction. DOT is publishing this notice to announce its intent to seek reinstatement of the previously approved information collections for these forms, OMB Control Number 2015-0576, and receive comments on the formatting and clarifying amendments made to its Behavior and Health Attestation Form. Currently, OMB authorization of the information collections expire on December 31, 2023.

The Department has not made amendments to its Relief Attestation Form as part of this renewal; however, the Department invites comments on the Relief Attestation Form renewal and on the formatting and clarifying amendments to its Behavior and Health Attestation Form. Although the amended Behavior and Health Attestation Form accompanying this Notice only addresses the formatting and clarity issues that have been raised about the form, the Department is aware that there are additional substantive issues raised about the current Behavior and Health attestation form, such as whether to include a question asking passengers to state the task or work their service animal performs, whether to ask passengers to affirm that they have a disability, and whether to clarify on the form that the carrier must assist the passenger with completing the form. The Department plans to explore these, and other related substantive issues that fall within the bounds of the service animal rule, with its next Air Carrier Access Act Advisory Committee.

The amended Behavior and Health Attestation Form accompanying this Notice has been reformatted as follows: (1) the DOT seal and the disclaimer language at the top of the form has been adjusted, (2) DOT has added subject headers throughout the form to better define the individual sections of the form, (3) DOT revised the form to include two separate training sections so that the service animal user can indicate both the task training and behavior training that the service animal received, (4) DOT added footnotes at the bottom of the form to clarify that the service animal user may be listed as the service animal's behavior and/or task trainer if the animal was self-trained, and (5) DOT reduced the number of times that the animal's name must be provided on the form.

The Paperwork Reduction Act of 1995 (PRA) and its implementing regulations, 5 CFR part 1320, require Federal agencies to issue two notices seeking public comment on information collection activities before OMB may approve paperwork packages. A Federal agency generally cannot conduct or sponsor a collection of information, and the public is generally not required to respond to an information collection, unless it is approved by the OMB under the PRA and displays a currently valid OMB Control Number. In addition, notwithstanding any other provisions of law, no person shall generally be subject to monetary penalty for failing to comply with a collection of information if the collection of information does not display a valid OMB Control Number. See 5 CFR 1320.5(a) and 1320.6.

For each of these information collections, the title, a description of the respondents, and an estimate of the annual recordkeeping and periodic reporting burden are set forth below.

1. Requirement to prepare and submit to airlines the DOT Air Transportation Service Animal Behavior and Health Attestation Form.

Respondents: Passengers with disabilities traveling on aircraft with service animals.

Number of Respondents: The Department estimates that 310,145 respondents will complete the Service Animal Health and Attestation form. This estimate was calculated by using the same analysis used by the Department in its 2021 Service Animal Regulatory Impact Analysis (RIA), where the Department estimated that 319,000 respondents would use the Service Animal Health and Attestation Form.

In the RIA, the Department relied on 2017 passenger data and estimates provided from Airlines for America on the number of service animals transported by U.S. air carriers in 2017 ¹ to estimate the number of respondents that would use the Service Animal Health and Attestation form. DOT estimated that in 2017, 281,000 service animals were transported by U.S. carriers on flights to, within, and from the United States, and 38,000 were transported by foreign air carriers on flights to and from the United States.² Assuming that only one passenger with a disability travels with a service animal, the Department determined in 2021 that 319,000 respondents (281,000 + 38,000) would use the service animal form.

¹ Comment from A4A, https://www.regulations.gov/document?D=DOT-OST-2018-0068-4288. A4A estimates that 281,000 service animals were transported on U.S. airlines in 2017. DOT estimates that 38,000 service animals were transported by foreign airlines on flights to and from the U.S. in 2017 based on air carrier passenger data from the Bureau of Transportation Statistics, available at https://www.bts.gov/newsroom/2017-traffic-data-us-airlines-andforeign-airlines-us-flights.

² See, Traveling by Air with Service Animals (FR)—Regulatory Impact Analysis (November 2020); Regulations.gov.

For the purposes of this renewal, the Department relied on 2022 enplanement data to estimate the number of respondents that would complete the service animal forms. In 2022, U.S. passenger enplanements increased by .5 percent and foreign carrier enplanements decreased by 27 percent.³ Thus, DOT estimates that 282,405 service animals were transported by U.S. carriers to, from, or within the U.S. in 2022 and, if foreign carriers had a similar proportion of passengers traveling with service animals, foreign carriers transported 27,740 service animals to or from the U.S. in 2022. Assuming that only one passenger with a disability travels with a service animal, 310,145 respondents (282,405 + 27,740) would complete the service animal behavior and health attestation form.

³ Bureau of Transportation Statistics (2022). “2022 Traffic Data for U.S. Airlines and Foreign Airlines U.S. Flights.” https://www.transtats.bts.gov/Data_Elements.aspx?Data=4. The number of passengers on foreign carriers (84.5 million) was 9.9 percent of the number on domestic carriers (852.8 million).

Estimated Total Annual Burden on Respondents: We estimate that completing the form would require 15 minutes (.25 hours) per response, including the time it takes to retrieve an electronic or paper version of the form from the carrier's website, reviewing the instructions, and completing the questions. Passengers would spend a total of 77,536 hours annually (0.25 hours × 310,145 passengers) to retrieve and complete an accessible version of the form. Passengers would fill out the forms on their own time without pay. To estimate the value of this uncompensated activity, we use median wage data from the Bureau of Labor Statistics.⁴ We use a post-tax wage estimate of $18.48 ($22.26 median for all occupations minus a 17% percent estimated tax rate). The estimated annual value of this time is $1,432,865 ($18.48 × 77,536 hours).⁵

⁴ For a discussion of estimating the value of uncompensated activities, see “Valuing Time in U.S. Department of Health and Human Services Regulatory Impact Analyses: Conceptual Framework and Best Practices” from the Department of Health and Human Services, available at https://aspe.hhs.gov/system/files/pdf/257746/VOT.pdf.

⁵ Bureau of Labor Statistics (2022). “May 2022 National Occupational Employment and Wage Estimates: United States.” May 2022 National Occupational Employment and Wage Estimates (bls.gov).

2. Requirement to prepare and submit to airlines the DOT Service Animal Relief Attestation Form.

Respondents: Passengers with disabilities traveling on aircraft with service animals on flight segments scheduled to take 8 hours or more.

Number of Respondents: The Department estimates that 5 percent of service animal users would be on flight segments scheduled to take 8 hours or more and would also have to complete the Relief Attestation Form, for a total of 15,507 respondents (310,145 × 0.05).

Estimated Total Annual Burden on Respondents: We estimate that completing the form would require 15 minutes (.25 hours) per response, including the time it takes to retrieve an electronic or paper version of the form from the carrier's website, reviewing the instructions, and completing the questions. Passengers would spend a total of 3,877 hours annually (0.25 hours × 15,507 passengers) to retrieve an accessible version of the form and complete the form. Passengers would fill out the forms on their own time without pay, as they would with the Animal Behavior and Health Attestation Form. The estimated annual value of this time is $71,647 ($18.48 × 3,877 hours).

Comments Invited

We invite comments on the Relief Attestation Form renewal and on the formatting and clarity amendments made to the Behavior and Health Attestation Form. We also invite comments on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. chapter 35, as amended; and 59 CFR 1.48.

BILLING CODE 4910-9X-P

Issued in Washington, DC.
Livaughn Chapman Jr.,
Deputy Assistant General Counsel, Office of Aviation Consumer Protection.

[FR Doc. 2023-24885 Filed 11-9-23; 8:45 am]

BILLING CODE 4910-9X-C